DEPARTMENT OF COMMERCE

National Oceanic and Atmospheric Administration

Agency Information Collection Activities; Submission to the Office of Management and Budget (OMB) for Review and Approval; Comment Request; Coral Reef Conservation Program

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. This notice pertains to a revision and extension of the approved collection of information for the Coral Reef Conservation Program. The purpose of this notice is to allow for 60 days of public comment preceding submission of the collection to OMB.

DATES: To ensure consideration, comments regarding this proposed information collection must be received on or before July 1, 2024.

ADDRESSES: Interested persons are invited to submit written comments to Adrienne Thomas, NOAA PRA Officer, at NOAA.PRA@noaa.gov. Please reference OMB Control Number 0648-0448 in the subject line of your comments. Written comments NOAA receives are considered part of the public record, and the entirety of the comment, including the name of the commenter, email address, attachments, and other supporting materials, will be publicly accessible. Sensitive personally identifiable information, such as account numbers and Social Security numbers or Confidential Business Information, should not be included with the comment.

FOR FURTHER INFORMATION CONTACT: Requests for additional information or specific questions related to collection activities should be directed to Craig Reid, Grant Coordinator, Coral Reef Conservation Program, NOAA National Ocean Service, 1305 East West Highway, 10th Floor, Silver Spring, MD 20910, 202-240-5332, and Craig.A.Reid@noaa.gov.

SUPPLEMENTARY INFORMATION:

I. Abstract

This request is for revision and extension to an approved collection of information under the Paperwork Reduction Act, 44 U.S.C. 3501 et seq., and implementing regulations at 5 CFR part 1320. The Coral Reef Conservation Act of 2000, 16 U.S.C. 6401 et seq., has been amended since the last approval and the revised requirements for information collection are outlined below.

The Coral Reef Conservation Act was enacted to conserve and restore the condition of United States coral reef ecosystems challenged by natural and human-accelerated changes; to promote the science-based management and sustainable use of coral reef ecosystems to benefit local communities and the Nation; to develop sound scientific information on the condition of coral reef ecosystems, continuing and emerging threats to such ecosystems, and the efficacy of innovative tools, technologies, and strategies to mitigate stressors and restore such ecosystems; to assist in the preservation of coral reefs by supporting science-based, consensus-driven, and community-based coral reef management by covered States (Florida, Hawaii, and the territories of American Samoa, the Commonwealth of the Northern Mariana Islands, Guam, Puerto Rico, and the United States Virgin Islands) and covered Native entities (an Indian Tribe, the Department of Hawaiian Home Lands, the Office of Hawaiian Affairs, or a Native Hawaiian organization with interests in a coral reef ecosystem); to provide financial resources, technical assistance, and scientific expertise to supplement, complement, and strengthen community-based management programs and conservation and restoration projects of non-Federal reefs; to establish a formal mechanism for collecting and allocating monetary donations from the private sector to be used for coral reef conservation and restoration projects; to support rapid, effective, and science-based assessment and response to exigent circumstances that pose immediate and long-term threats to coral reefs; and to serve as a model for advancing similar international efforts to monitor, conserve, and restore coral reef ecosystems.

Under section 6406 of the Act (Block Grants), covered States are responsible for documenting and reporting the State's use of Federal funds received under the Act; and expenditures of non-Federal funds made in furtherance of coral reef management and restoration as the NOAA Administrator (Administrator) deems appropriate. The Administrator is responsible for providing guidance on the proper documentation of expenditures.

Under section 6410 of the Act (Ruth D. Gates Coral Reef Conservation Grant Program), the NOAA Administrator, and subject to the availability of appropriations, is authorized to provide up to $3,500,000 annually (per section 6414(c)) in grants for coral reef conservation projects.

Collection activities for this program are outlined below and include: 1. Collection and submission of covered States' non-Federal expenditures under the block grants section; 2. Applicant development and submission of a proposal package to a Notice of Funding Opportunity under the Ruth D. Gates Coral Reef Conservation Grant Program; and 3. If selected and awarded funding, submission of performance progress reports, to include a standard program-specific performance progress report template with a new indicator tracking report for all financial assistance recipients.

NOAA anticipates the first block grants will be awarded in fiscal year 2025 and NOAA is currently drafting guidance for the covered States for the annual collection of their non-Federal expenditures. NOAA expects to supply a simple form to each covered State for an aggregated, high-level report of each covered State's Non-Federal expenditures from the previous fiscal year. NOAA expects the same performance (technical) reports required by 2 CFR 200.329 for all recipients of non-construction Federal financial assistance awards described in detail below will be sufficient to document and report the State's use of Federal funds.

As per section 6410(b) of the Act, NOAA will require that each proposal package submitted to a Ruth D. Gates Coral Reef Conservation Program Notice of Funding Opportunity at minimum include: 1. The name of the individual or entity responsible for conducting the project; 2. A description of the qualifications of the individual or entity; 3. A succinct statement of the purposes of the project; 4. An estimate of the funds and time required to complete the project; 5. Evidence of support for the project by appropriate representatives of States or other government jurisdictions in which the project will be conducted; 6. Information regarding the source and amount of matching funding available to the applicant; 7. A description of how the project meets one or more of the priorities listed in the announcement; and 8. In the case of a proposal submitted by a coral reef stewardship partnership, a description of how the project aligns with the applicable coral reef action plan in effect under section 6404 of this title. Additionally, Federal funds for any coral conservation financial assistance project may not exceed 50 percent of the total cost. However, the Administrator may waive all or part of the matching requirement if the Administrator determines that no reasonable means are available through which an applicant can meet the matching requirement with respect to a coral reef project and the probable benefit of the project outweighs the public interest in the matching requirement. The applicant may choose to also submit a request for this non-Federal matching requirement, if full or in part, at their discretion.

Per 2 CFR 200.329, all recipients of non-construction Federal financial assistance awards are required to provide performance (technical) reports to the agency at intervals no less frequently than annually and no more frequently than quarterly in order for the agency to properly monitor the award and meet oversight responsibilities. The awarding agency must use OMB-approved common forms for this purpose or seek permission for program-specific forms that will collect the required data elements. The Coral Reef Conservation Program obtained OMB approval to revise this information collection to require use of a program-specific form for semi-annual reporting and an annual form for tracking specific indicators but has not been implemented. These indicators align with the new Coral Reef Conservation Program Strategic Plan (2018; https://www.coris.noaa.gov/activities/strategic_plan2018) and were to be used to track national progress toward these strategic goals through 2040, however section 6403 of the Act now requires the creation of National Coral Resilience Strategy by December, 2024, and the form may need to be revised to track any changes in indicators. The program-specific form for semi-annual reporting will be a revised version of what is currently approved and will standardize reporting across projects.

II. Method of Collection

Information will be collected electronically via the Department of Commerce's grant management system, eRA Commons, for performance (technical) reports, Grants.gov for non-Federal match waiver requests, and email for covered States' submissions of expenditures of non-Federal funds. In the event that electronic submission is not available for non-Federal match waiver requests, paper submissions may be allowable pursuant to the Notice of Funding Opportunity.

III. Data

OMB Control Number: 0648-0448.

Form Number(s): SF-424 series.

Type of Review: Regular (Revision and extension of current information collection).

Affected Public: Business or other for-profit organizations; nonprofit, nongovernmental, and not-for-profit institutions; State or local government; and regional fishery management councils established under the Magnuson-Stevens Fishery Conservation and Management Act (16 U.S.C. 1801 et seq.).

Estimated Number of Respondents: 42.

Estimated Time per Response: Block grant report of non-Federal expenditures of covered States: to be determined; Ruth D. Gates Grant Program proposal package development and submission: 46.5 hours; performance progress report and indicator report submission: 6 hours.

Estimated Total Annual Burden Hours: 937 hours.

Estimated Total Annual Cost to Public: No cost for electronic responses.

Respondent's Obligation: Required to obtain or retain benefits.

Legal Authority: Coral Reef Conservation Act of 2000, 16 U.S.C. 6401 et seq.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-09206 Filed 4-29-24; 8:45 am]

BILLING CODE P